DEPARTMENT OF ENERGY

Federal Energy Regulatory Commission

[Docket No. RP02-125-000]

Gulf South Pipeline Company, LP; Request for Waiver of OFO Penalty Provisions

December 20, 2001.

Take notice that on December 18, 2001, Gulf South Pipeline Company, LP (Gulf South) tendered for filing a request seeking authority to waive certain requirements of sections 10 and 19 of the General Terms and Conditions of its FERC Gas Tariff. Specifically, Gulf South is seeking authority to waive all penalties associated with the Operational Flow Order that was issued on November 24, 2001.

Gulf South states that copies of this filing has been served upon its customers, interested state commissions and other interested parties.

Any person desiring to be heard or to protest said filing should file a motion to intervene or a protest with the Federal Energy Regulatory Commission, 888 First Street, NE., Washington, DC 20426, in accordance with sections 385.214 or 385.211 of the Commission's rules and regulations. All such motions or protests must be filed December 31, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31996 Filed 12-27-01; 8:45 am]

BILLING CODE 6717-01-P